DEPARTMENT OF HOMELAND SECURITY

Federal Emergency Management Agency

[Docket ID: FEMA-2024-0038; OMB No. 1660-0132]

Agency Information Collection Activities: Proposed Collection; Comment Request; Consolidated FEMA-National Training and Education Division (NTED) Level 3 Training Evaluation Forms

AGENCY: Federal Emergency Management Agency, Department of Homeland Security.

ACTION: 60-Day notice of revision and request for comments.

SUMMARY: The Federal Emergency Management Agency (FEMA), as part of its continuing effort to reduce paperwork and respondent burden, invites the general public to take this opportunity to comment on a revision of a currently approved information collection. In accordance with the Paperwork Reduction Act of 1995, this notice seeks comments concerning the consolidation of all previous instruments into two evaluation forms to be shared by three FEMA offices to evaluate training programs.

DATES: Comments must be submitted on or before March 18, 2025.

ADDRESSES: To avoid duplicate submissions to the docket, please submit comments at www.regulations.gov under Docket ID FEMA-2024-0038. Follow the instructions for submitting comments.

All submissions received must include the agency name and Docket ID. Regardless of the method used for submitting comments or material, all submissions will be posted, without change, to the Federal eRulemaking Portal at http://www.regulations.gov, and will include any personal information you provide. Therefore, submitting this information makes it public. You may wish to read the Privacy and Security Notice that is available via a link on the homepage of www.regulations.gov.

FOR FURTHER INFORMATION CONTACT: Samuel Phillips, Supervisory Emergency Management Specialist, NTED, (202) 786-9573, and Samuel.Phillips@fema.dhs.gov. Dr. Pamela Moore, Assistant Director, Center for Domestic Preparedness (CDP), (256) 847-2629, and Pamela.Moore@fema.dhs.gov. Dalia Abdelmeguid, Supervisory Instructional Systems Specialist, National Disaster and Emergency Management University (NDEMU), (202) 212-8524, and Dalia.Abdelmeguid@fema.dhs.gov. You may contact the Information Management Division for copies of the proposed collection of information at email address: FEMA-Information-Collections-Management@fema.dhs.gov.

SUPPLEMENTARY INFORMATION: The National Training and Education Division (NTED), the Center for Domestic Preparedness (CDP) and the National Disaster and Emergency Management University (NDEMU) are geographically separated components of FEMA's National Preparedness Directorate. As such, all three organizations are part of the National Preparedness Directorate Training Enterprise with unique training missions for specific target audiences and are responsible for supporting and enabling national preparedness Core Capability, Community Lifelines, and Recovery Sector Preparedness performance outcomes described in Presidential Policy Directive (PPD) 8 National Preparedness, the National Preparedness Goal (NPG), the National Preparedness System (NPS), and 2022-2026 FEMA Strategic Plan objectives 1.3, 2.1, 2.2, and 3.1.

Like other Federal training organizations, the NTED, CDP and NDEMU utilize the Kirkpatrick Training Evaluation Model Level 3 survey results as one of several training evaluation tools to inform component program managers and leadership with metrics that monitor and report organizational performance and compliance with the Government Performance, Results and Modernization Act of 2010 (the “GPRA Modernization Act of 2010”). 31 U.S.C. 1115(b)(6) requires “. . .a balanced set of performance indicators to be used in measuring or assessing progress toward each performance goal, including, as appropriate, customer service, efficiency, output, and outcome indicators [emphasis added].” Due to the qualitative nature of participants' feedback obtained from this survey measuring impact or changes in course graduates work performance, their occupations or organizational performance behavior the results, with other data, are used to monitor performance of NTED, CDP and NDEMU training programs. NTED and CDP are members of the National Domestic Preparedness Consortium (NDPC). Per 6 U.S.C. 1102(c),the NDPC “shall identify, develop, test, and deliver training to State, local, and tribal emergency response providers, provide on-site and mobile training at the performance and management and planning levels, and facilitate the delivery of training by the training partners of the Department [emphasis added].” FEMA interprets this authority to “test training” as the ability to assess its effectiveness, which this survey directly facilitates.

6 U.S.C. 748(a)(1) directs the FEMA Administrator to, “in coordination with heads of appropriate Federal agencies, the National Council on Disability, and the National Advisory Council, [ ] carry out a national training program to implement the national preparedness goal, National Incident Management System, National Response Plan, and other related plans and strategies.” In addition, 6 U.S.C. 748(a)(2) directs the FEMA Administrator, in developing and implementing the national training program, to “work with government training facilities, academic institutions, private organizations, and other entities that provide specialized, state-of-the-art training for emergency managers or emergency response providers; and utilize, as appropriate, training courses provided by community colleges, State and local public safety academies, State and private universities, and other facilities.”

The Level 3 data collected from course graduates three to six months following training provides NTED, CDP and NDEMU with information and data on how training knowledge, skill and attitudes (KSA's) gained from training transfer to the student's job and organization and if the training was applied to the job, an exercise, or during an operational mission. Note: The number of NTED CTG training providers may fluctuate, increase, or decrease based on fiscal year grant funding levels approved by Congress.

This revision consolidates all evaluation forms for all offices into two shared instruments.

Collection of Information

Title: Consolidated FEMA-National Training and Education Division (NTED) Level 3 Training Evaluation Forms.

Type of Information Collection: Revision of a currently approved information collection.

OMB Number: 1660-0132.

FEMA Forms: CDP, NDEMU, and NTED Level 3 Student Evaluation Form, FEMA Form FF-008-FY-25-100; CDP, NDEMU, and NTED Level 3 Supervisor Evaluation Form, FEMA Form FF-008-FY-25-101.

Abstract: NTED, CDP, and NDEMU all utilize the Kirkpatrick Four Level Training Evaluation Model to assess training effectiveness. Donald Kirkpatrick developed the four-level model of training evaluation: Level 1 evaluation captures the students' perception or reaction to training. Level 2 completes a pre-post comparison of learning via tests/examinations and performance assessment checklists of the student learning (change in behavior). Level 3 evaluation instruments capture how the training transfers to the students' work environment and their particular job. Lastly, Level 4 captures information about the return on key stakeholder expectations of the course or training program. The data collected by these training evaluation forms is shared with representatives from each course/program's respective target audience during three-year course/program reviews. All three organizations analyze the data to determine what revisions are needed in curriculum, delivery, and to elicit inputs to improve training while providing documentation as to how training was applied, and how it impacts the individual and organization.

Affected Public: State, Local, and Tribal Government; Private Sector.

Estimated Number of Respondents: 20,224.

Estimated Number of Responses: 20,224.

Estimated Total Annual Burden Hours: 5,057.

Estimated Total Annual Respondent Cost: $302,117.

Estimated Respondents' Operation and Maintenance Costs: $0.

Estimated Respondents' Capital and Start-Up Costs: $0.

Estimated Total Annual Cost to the Federal Government: $41,797.

Comments

Comments may be submitted as indicated in the ADDRESSES caption above. Comments are solicited to (a) evaluate whether the proposed data collection is necessary for the proper performance of the Agency, including whether the information shall have practical utility; (b) evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Maile Rasco-Arthur,
Acting Records Management Branch Chief, Office of the Chief Administrative Officer, Mission Support, Federal Emergency Management Agency, Department of Homeland Security.

[FR Doc. 2025-01203 Filed 1-16-25; 8:45 am]

BILLING CODE 9111-72-P